DEPARTMENT OF COMMERCE

International Trade Administration

Initiation of Five-Year (“Sunset”) Review

Correction

In notice document 2010-27522 beginning on page 67082 in the issue of Monday, November 1, 2010, make the following correction:

On page 67082, in the table, in the fourth column, the sixth entry “Certain Cut-to-Length Carbon-Quality Steel Plate (3rd Review)” should read “Granular Polytetrafluoroethylene (3rd Review)”.

[FR Doc. C1-2010-27522 Filed 1-11-11; 8:45 am]

BILLING CODE 1505-01-D